LEGAL SERVICES CORPORATION

Sunshine Act Meeting of the Board of Directors,

TIME AND DATE: The Board of Directors of the Legal Services Corporation will meet on May 25, 2000, via conference call. The meeting will begin at 4:00 p.m. and continue until conclusion of the Board's agenda.

LOCATION: 750 First Street, NE, 11th Floor, Washington, DC 20002, in Room 11026.

STATUS OF MEETING: Open.

MATTERS TO BE CONSIDERED: 1. Approval of the agenda.

2. Consider and act on the Board of Director's comments on the Inspector General's Semiannual Report to Congress for the Period October 1, 1999 to March 31, 2000.

3. Consider and act on other business.

CONTACT PERSON FOR INFORMATION: Victor M. Fortuno, Vice President for Legal Affairs, (202) 336-8800.

SPECIAL NEEDS: Upon request, meeting notices will be made available in alternate formats to accommodate visual and hearing impairments, Individuals who have a disability and need an accommodation to attend the meeting may notify Shannon Nicko Adaway, at (202) 336-8800.

Dated: May 12, 2000
Victor M. Fortuno,
Vice President for Legal Affairs.

[FR Doc. 00-12558 Filed 5-15-00; 3:11 pm]

BILLING CODE 7050-01-P